DEPARTMENT OF TRANSPORTATION

Federal Aviation Administration

Notice of Decision To Issue Buy American Waivers for Foreign Object Debris (FOD) Detection Equipment

AGENCY: Federal Aviation Administration (FAA), U.S. DOT.

ACTION: Notice of Decision.

SUMMARY: On August 5, 2010, the FAA published a notice in the Federal Register advising manufacturers of Foreign Object Debris (FOD) detection equipment that it was considering issuing waivers to Buy American requirements of 49 USC 50101 to foreign manufacturers of FOD detection equipment (Federal Register/Vol. 75, No. 150/Thursday, August 5, 2010/Notices, page 47344) The FAA has determined that two manufacturers with products containing 60% or more U.S. content and U.S. final assembly are able to produce sufficient and reasonable amounts of FOD detection equipment meeting the requirements of FAA Advisory Circular 150/5220-24. Subsequently, the FAA will issue Buy American Waivers based on the 60% U.S. content and U.S. final assembly. The FAA will not issue any Buy American Waivers based on insufficient quantity to foreign manufacturers.

DATES: This notice becomes effective December 28, 2010.

FOR FURTHER INFORMATION CONTACT: Mr. Frank San Martin, Manager, Airports Financial Assistance, APP 500, Room 620, FAA, 800 Independence Avenue, SW., Washington, DC 20591, Telephone (202) 267-3831.

SUPPLEMENTARY INFORMATION: On September 30, 2009 the FAA published Advisory Circular 150/5220-24, Airport Foreign Object Debris (FOD) detection equipment, detailing system requirements at airports. However, while developing this Advisory Circular the FAA tested equipment from a variety of FOD detection equipment manufacturers, including some manufacturers from outside of the United States. Compliance with the Buy American requirements (49 U.S.C. 50101) is required for projects funded under the Airport Improvement Program (AIP). To determine if there were any U.S. manufacturers that can produce sufficient and reasonable amounts of stationary FOD detection systems; the FAA issued a notice in the Federal Register on August 5, 2010 requesting information from both domestic and foreign manufacturers producing FOD detection equipment (75 FR 47344).

Following the Federal Register notice the FAA received information from five companies indicating that they manufacturer stationary FOD detection equipment meeting the requirements of Advisory Circular 150/5220-24. The five companies were: Trex Aviation Systems, which is based in San Diego, CA; QinetiQ Ltd., which is based in the United Kingdom but has a manufacturing facility in Massachusetts; Stratech Systems Limited, which is based in Singapore; Magna BSP Ltd., which is based in Israel; Rheinmetall Italia S.P.A., which is based in Italy; and X-Sight Systems Inc., which is based in Israel.

Based on the information received the FAA identified two companies manufacturing stationary FOD detection systems in the United States: Trex Aviation Systems and QinetiQ. Although both Trex Aviation Systems and QinetiQ produce their FOD detection systems in the United States their systems do not fully meet the Buy American content requirements, which require that the product be manufactured with one hundred percent U.S. components and subcomponents (49 U.S.C. 50101). As a result the FAA will issue a Nationwide Buy American Waiver for the Trex Aviation Systems' FOD Finder XF and QinetiQ's Tarsier FOD System based on the 60% U.S. content and U.S. final assembly waiver permitted in 49 U.S.C. 50101(b)(3). With the presence of these two manufacturers in the United States the FAA has determined there is sufficient quantity and consequently there is no justification for issuing any Buy American Waivers to foreign manufacturers based on insufficient quantity at this time. In the past the FAA has concluded that when there are two or more manufacturers in a particular market sufficient quantity may exist; as concluded in the Buy American Waiver determinations related to Automated Weather Observing Systems (AWOS) and airfield lighting equipment.

While the FAA is not at this time issuing any Buy American Waivers to foreign manufacturers, if in the future these foreign companies begin assembly in the United States and can meet the 60% U.S. content and U.S. final assembly waiver requirement under 49 U.S.C. 0101(b)(3) the FAA will reevaluate their status.

This “Nationwide Waiver” will allow Trex Aviation Systems' FOD Finder XF and QinetiQ's Tarsier FOD System to be used on AIP funded projects without having to receive separate waivers for each project. Having a nationwide waiver enables projects to start quickly without having to wait for the Buy American analysis to be completed for every project, while still assuring the funds used for airport projects under the statute are being directed to manufacturers that meet the Buy American requirements. A complete list of items that have been granted a Nationwide Buy American Waiver can be found on the FAA Web site at http://www.faa.gov/airports/aip/procurement/federal_contract_provisions/ at the tab entitled, Equipment Meeting Buy American Requirements.

Issued in Washington, DC on December 17, 2010.
Frank San Martin,
Manager, Airports Financial Assistance Branch.

[FR Doc. 2010-32578 Filed 12-27-10; 8:45 am]

BILLING CODE 4910-13-P